DEPARTMENT OF COMMERCE

National Oceanic and Atmospheric Administration

[I.D. 021800A]

Endangered Species; Permits

AGENCY: National Marine Fisheries Service (NMFS), National Oceanic and Atmospheric Administration (NOAA), Commerce.

ACTION: Receipt of applications for scientific research and enhancement permits (1238, 1239).

SUMMARY: Notice is hereby given that NMFS has received permit applications from Mr. Ken Bergstrom, of the Western Massachusetts Center for Sustainable Aquaculture (WMCSF)(1238) and Dr. Boyd Kynard, of USGS-BRD-Conte Anadromous Fish Research Center (CAFRC) (1239).

DATES: Comments or requests for a public hearing on either of these applications must be received at the appropriate address or fax number (see ADDRESSES) no later than 5:00 pm eastern standard time on April 3, 2000.

ADDRESSES: Written comments on either of these applications should be sent to Office of Protected Resources, Endangered Species Division, F/PR3, 1315 East-West Highway, Silver Spring, MD 20910. Comments may also be sent via fax to 301-713-0376. Comments will not be accepted if submitted via e-mail or the internet. The applications and related documents are available for review in the Office of Protected Resources, Endangered Species Division, F/PR3, 1315 East-West Highway, Silver Spring, MD 20910 (ph: 301-713-1401).

FOR FURTHER INFORMATION CONTACT: Terri Jordan, Silver Spring, MD (ph: 301-713-1401, fax: 301-713-0376, e-mail: Terri.Jordan@noaa.gov).

SUPPLEMENTARY INFORMATION:

Authority

Issuance of permits and permit modifications, as required by the Endangered Species Act of 1973 (16 U.S.C. 1531-1543) (ESA), is based on a finding that such permits/modifications: (1) Are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations governing listed fish and wildlife permits (50 CFR parts 222-226).

Those individuals requesting a hearing on an application listed in this notice should set out the specific reasons why a hearing on that application would be appropriate (see ADDRESSES). The holding of such hearing is at the discretion of the Assistant Administrator for Fisheries, NOAA. All statements and opinions contained in the permit action summaries are those of the applicant and do not necessarily reflect the views of NMFS.

Species Covered in this Notice

The following species is covered in this notice: Endangered shortnose sturgeon (Acipenser brevirostrum).

New Applications Received

WMCSF has requested a 5-year enhancement permit to maintain up to 300 captively bred juvenile shortnose sturgeon currently held by the US Fish and Wildlife Service—Conte Anadromous Fish Research Center. The fish will be used as part of an education program emphasizing conservation of Connecticut River fishes.

CAFRC has requested a 5-year permit to lethally take up to 200 spawned eggs, embryos and larvae annually; capture, PIT tag and release up to 350 juvenile and adult sturgeon annually; and authorization to lethally take up to 1000 pre-spawned eggs; radio tag and release 3 pre-spawned females and 7 pre-spawned males for three years of the permit. The applicant is proposing to continue research on life history of shortnose sturgeon in the Connecticut river, and plans to collect new information on spawning, migration, habitat and fish passage of the species.

Dated: February 24, 2000.
Wanda L. Cain,
Chief, Endangered Species Division, Office of Protected Resources, National Marine Fisheries Service.

[FR Doc. 00-5067 Filed 3-1-00; 8:45 am]

BILLING CODE 3510-22-F